ENVIRONMENTAL PROTECTION AGENCY

[FRL-7806-3]

Notice of Proposed Administrative Cost Recovery Agreement Under Section 122(h)(1) of the Comprehensive Environmental Response, Compensation and Liability Act, Regarding the Olean Steel Sales and Service, Inc. Superfund Site, Town of Olean, Cattaraugus County, NY

AGENCY: Environmental Protection Agency.

ACTION: Notice of proposed administrative agreement and opportunity for public comment.

SUMMARY: In accordance with section 122(i) of the Comprehensive Environmental Response, Compensation and Liability Act of 1980, as amended (“CERCLA”), 42 U.S.C. 9622(i), the U.S. Environmental Protection Agency (“EPA”) Region II announces a proposed administrative settlement pursuant to section 122(h)(1) of CERCLA, relating to the Olean Steel Sales and Service, Inc. Superfund Site (the “Site”) in the Town of Olean, Cattaraugus County, New York. This Site is not on the National Priorities List established pursuant to section 105(a) of CERCLA. This notice is being published to inform the public of the proposed settlement and of the opportunity to comment.

The settlement, memorialized in an Administrative Cost Recovery Agreement (“Agreement”), is being entered into by EPA and Olean Steel Sales and Service, Inc. (the “Settling Party”). Under the Agreement, which is based on the ability to pay of the Settling Party, the Settling Party shall pay EPA the sum of $78,500 in settlement of EPA's claim for past response costs incurred with respect to the Site.

DATES: EPA will accept written comments relating to the proposed settlement for a period of thirty days from the date of publication of this notice.

ADDRESSES: Comments should be sent to: Cynthia Psoras, New York/Caribbean Superfund Branch, Office of Regional Counsel, U.S. Environmental Protection Agency, 290 Broadway, 17th Floor, New York, NY 10007-1866. Comments should reference the Olean Steel Sales and Service, Inc., Superfund Site and EPA Index No. CERCLA-02-2004-2026. For a copy of the Agreement, contact the individual listed below.

FOR FURTHER INFORMATION CONTACT: Cynthia Psoras, Assistant Regional Counsel, New York/Caribbean Superfund Branch, Office of Regional Counsel, U.S. Environmental Protection Agency, 290 Broadway, 17th Floor, New York, New York, 10007-1866, Telephone: (212) 637-3169.

Dated: August 11, 2004.
George Pavlou,
Director, Emergency and Remedial Response Division, U.S. Environmental Protection Agency, Region II.

[FR Doc. 04-19436 Filed 8-24-04; 8:45 am]

BILLING CODE 6560-50-P